DEPARTMENT OF DEFENSE

Department of the Army

Notice of Intent To Prepare an Environmental Impact Statement (EIS) for Training Land Expansion for Fort Benning, GA

AGENCY: Department of the Army, DoD.

ACTION: Notice of Intent (NOI).

SUMMARY: The Department of the Army intends to prepare an EIS to analyze environmental and socioeconomic impacts connected with the proposed acquisition of up to 82,800 additional acres of land for training in the vicinity of Fort Benning, Georgia. The land is needed to provide Fort Benning's Soldiers and units with the capability to conduct realistic maneuver training exercises through the battalion level as they train at home station to deploy to support operations abroad. This action will also support the training requirements of the Maneuver Center of Excellence (MCoE). The EIS will analyze four alternatives that are deemed feasible and meet the purpose and need for this Proposed Action, as well as the no action alternative of not acquiring more training land.

ADDRESSES: Written comments may be mailed to Fort Benning Public Affairs, Attention: Mr. Bob Purtiman, Building 35, Room 375, Fort Benning, GA 31905, or e-mailed to land.benning@us.army.mil.

FOR FURTHER INFORMATION CONTACT: Mr. Robert Purtiman, Fort Benning Public Affairs Office, at (706) 545-8830 from 9 a.m. to 4 p.m. e.d.s.t.

SUPPLEMENTARY INFORMATION: Fort Benning, located in west-central Georgia and east-central Alabama, is home to the: MCoE, including the Infantry and Armor Schools; 3d Brigade Combat Team, 3d Infantry Division; 75th Ranger Regiment; 11th Engineer Battalion; 13th Combat Support Service Battalion; and other organizations. Fort Benning's primary missions include supporting the training of these units in order to provide Soldiers with the most challenging and realistic training possible.

Fort Benning is currently comprised of approximately 182,000 contiguous acres of federally-owned land. The recently published Army Training Strategy has placed a focus on the conduct of battalion level maneuver training at home station for units subordinate to the Brigade Combat Teams. To meet this training requirement at Fort Benning, the Army has identified a need to acquire up to 82,800 acres of additional land to enhance realistic training conditions to better meet the training needs of the MCoE and deployable units stationed at Fort Benning. This additional land will enhance training of the units at Fort Benning and will allow Soldiers to train to more realistic standards in preparation for deployment. This action will also enable the Army to move certain Scout Leaders Course training off the current Installation to newly acquired property to comply with the U.S. Fish and Wildlife Service biological opinion for the MCoE.

The alternatives being studied include lands in several distinct study areas southeast and south of Fort Benning in Chattahoochee, Marion, Webster, and Stewart counties in Georgia and southwest of Fort Benning in Russell County, Alabama. The Army will also analyze the No Action Alternative, which will evaluate the impacts of not acquiring additional training land around Fort Benning. Resource areas which may be impacted as a result of converting current land use to support of military training, include air quality, traffic, noise, water resources, biological resources, cultural resources, socioeconomics, utilities, land use, and solid and hazardous materials/waste, as well as cumulative environmental effects. Significant impacts could occur to socio-economics and land use.

The public is invited to participate in the scoping process, which begins with the publication of this Notice of Intent in the Federal Register and will last for 30 days. The scoping process will include at least three public scoping meetings, which are opportunities for the public to receive information about the proposed action and alternatives, and to assist the Army in determining issues related to the proposed acquisition to be addressed in the EIS. These meetings will be held in communities surrounding Fort Benning and the specific details of the meetings will be announced in local media sources. The public will also be invited to review and comment on the Draft EIS when it is available for review. Comments from the public will be considered before any decision is made regarding implementing the proposed action at Fort Benning.

Dated: May 24, 2010.
Addison D. Davis, IV,
Deputy Assistant Secretary of the Army (Environment, Safety and Occupational Health).

[FR Doc. 2010-13443 Filed 6-3-10; 8:45 am]

BILLING CODE 3710-08-P